DEPARTMENT OF HEALTH AND HUMAN SERVICES

Notice of Meeting of the Advisory Committee on Blood Safety and Availability

AGENCY: Office of the Secretary.

ACTION: Notice of meeting.

SUMMARY: The Advisory Committee on Blood Safety and Availability will meet to examine the role of the Federal Government in the distribution of the nation's blood supply. The meeting will be entirely open to the public.

DATES: The Advisory Committee on Blood Safety and Availability will meet on Wednesday, January 28 and Thursday, January 29, 2004 from 8 a.m. to 5 p.m.

ADDRESSES: The meeting will take place at the Grand Hyatt Washington Hotel, 1000 H Street NW., Washington, DC 20001.

FOR FURTHER INFORMATION CONTACT: CAPT Lawrence C. McMurtry, Deputy Executive Secretary, Advisory Committee on Blood Safety and Availability, Department of Health and Human Services, Office of Public Health and Science, 1101 Wootton Parkway, Suite 250, Rockville, MD 20852, (301) 443-2331, FAX (301) 443-4788, e-mail lmcmurtry@osophs.dhhs.gov.

SUPPLEMENTARY INFORMATION: Public comment will be solicited at the meeting. Public comment will be limited to five minutes per speaker. Those who wish to have printed material distributed to Advisory Committee members should submit thirty (30) copies to the Executive Secretary prior to close of business January 16, 2004. Those who wish to utilize electronic data projection in their presentation to the Committee must submit their material to the Executive Secretary prior to close of business January 16, 2004. In addition, anyone planning to comment is encouraged to contact the Executive Secretary at her/his earliest convenience.

Dated: December 10, 2003.
CAPT Lawrence C. McMurtry,
Deputy Executive Secretary, Advisory Committee on Blood Safety and Availability.

[FR Doc. 03-30966 Filed 12-15-03; 8:45 am]

BILLING CODE 4150-28-P